INTERNATIONAL TRADE COMMISSION

[Investigation Nos. 701-TA-486 and 731-TA-1195-1196 (Final)]

Utility Scale Wind Towers From China and Vietnam; Commission Determination To Deny a Request To Hold a Portion of a Hearing in Camera

AGENCY: U.S. International Trade Commission.

ACTION: Commission Determination Not to Close Any Part of the Hearing to the Public.

SUMMARY: The Commission has determined to deny a request to conduct a portion of its hearing in the above-captioned investigations scheduled for December 13, 2012 in camera. See Commission rules 207.24(d), 201.13(m) and 201.36(b)(4) (19 CFR 207.24(d), 201.13(m) and 201.36(b)(4)).

FOR FURTHER INFORMATION CONTACT: Michael K. Haldenstein, Office of the General Counsel, U.S. International Trade Commission, telephone 202-205-3041. Hearing-impaired individuals are advised that information on this matter may be obtained by contacting the Commission's TDD terminal on 202-205-3105.

SUPPLEMENTARY INFORMATION: The Commission believes that respondents CS Wind Tech. Co., Ltd., CS Wind Vietnam Co., Ltd., Chengxi Shipyard Co., Ltd., Titan Wind Energy (Suzhou) Co., Ltd., Shanghai Taisheng Wind Power Equipment Co., Ltd., the China Chamber of Commerce for Import & Export of Machinery & Electronic Products and Siemens Energy, Inc. have not justified the need for resorting to the extraordinary measure of an in camera hearing. The Commission reaffirms its belief that whenever possible its business should be conducted in public. Accordingly, the Commission has determined that the public interest would be best served by a hearing that is entirely open to the public.

Authority: This notice is provided pursuant to Commission Rule 201.35(b) (19 CFR 201.35(b)).

Issued: December 11, 2012.
By order of the Commission.
Lisa R. Barton,
Acting Secretary to the Commission.

[FR Doc. 2012-30234 Filed 12-14-12; 8:45 am]

BILLING CODE 7020-02-P